DEPARTMENT OF HEALTH AND HUMAN SERVICES

Administration for Children and Families

Submission for OMB Review; Children's Bureau National Youth in Transition Database (NYTD); OMB #0970-0340

AGENCY: Children's Bureau, Administration for Children and Families, HHS.

ACTION: Request for public comment.

SUMMARY: The Administration for Children and Families (ACF) is requesting a 3-year extension of the National Youth in Transition Database (NYTD) Youth Services Report and Youth Outcomes Survey Data Collection (OMB #0970-0340, expiration date 03/31/2022). There are no changes requested to the form.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: The Foster Care Independence Act of 1999 (42 U.S.C. 1305 et seq.) as amended by Public Law 106-169 requires state child welfare agencies to collect and report to ACF Children's Bureau data on the characteristics of youth receiving independent living services and information regarding their outcomes. The regulation implementing the NYTD, listed in 45 CFR 1356.80, contains standard data collection and reporting requirements for states to meet the law's requirements. Additionally, the Family First Prevention Services Act of 2017 (H.R. 253) further outlines the expectation of the collection and reporting of data and outcomes regarding youth who are in receipt of independent living services. ACF uses the information collected under the regulation to track independent living services, assess the collective outcomes of youth, and potentially to evaluate state performance with regard to those outcomes consistent with the law's mandate.

Respondents: State agencies that administer the Chafee Foster Care Program for Successful Transition to Adulthood (Chafee program) and youth served by these agencies.

Annual Burden Estimates for 2022-2024
Information collection title | Total number of respondents | Total number of responses per respondent | Average burden hours per response | Total burden hours for 2022-24 | Annual burden hours
State Data File | 52 | 2 | 3916 | 407,264 | 135,755
Youth Outcomes Survey | 47,000 | 1 | .5 | 23,500 | 7,833
Estimated Annual Burden Total |  |  |  |  | 143,588

Estimated Total Annual Burden Hours: 143,588.

Authority: NYTD is authorized by Public Law 106-169, enacted December 14, 1999. This public law establishes the John H. Chafee Foster Care Independence Program, now known as Chafee program, at section 477 of the Social Security Act (the Act). NYTD data are collected pursuant to 45 CFR 1356.80.

Mary B. Jones,
ACF/OPRE Certifying Officer.

[FR Doc. 2022-06234 Filed 3-23-22; 8:45 am]

BILLING CODE 4184-01-P